DEPARTMENT OF ENERGY

Federal Energy Regulatory Commission

[Docket No. QF08-67-000]

Red River Environmental Products, LLC; Notice of Self-Certification of Qualifying Status of a Cogeneration Facility

December 13, 2007.

Take notice that on November 15, 2007, Red River Environmental Products, LLC, 8100 Southpark Way, Unit B, Littleton, CO 80120, filed with the Federal Energy Regulatory Commission a notice of self-certification of a facility as a qualifying cogeneration facility pursuant to 18 CFR 292.207(a) of the Commission's regulations.

Red River Environmental Products, LLC proposes to certify a new bottoming cycle cogeneration facility near the town of Armistead, Louisiana in Red River Parish (Facility). The powdered activated carbon (PAC) manufactured at the Facility will be marketed for injection into the flue gas stream of coal-fired power plants as an effective means of removing mercury emissions. The process will produce PAC primarily from coal (lignite) through a thermal process. A small quantity of natural gas will also be used to help control the process temperature and emissions. Waste heat from this process will be captured and used to generate approximately 19,500 kW of gross electric power and 18,380 kW of net electric power from each of two production lines, for a total generating capacity of approximately 39,000 kW gross and 36,760 kW net. The electric power in each production line will be generated by two steam turbines: one sized to generate 15,500 kW and another sized to generate 4,000 kW of gross power, resulting in total net power of 18,380 kW per production line. Generators will be connected to a step-up transformer (GSU), which will step up 13.8 kV to 115 kV. The electric power generated by the Facility will be used on site to power the PAC manufacturing plant, and sold into the wholesale market.

Cleco Power, LLC is the electric utility with which the Facility expects to interconnect, transmit or sell electric energy to, or purchase supplementary, standby, back-up and maintenance power.

A notice of self-certification does not institute a proceeding regarding qualifying facility status; a notice of self-certification provides notice that the entity making filing has determined the Facility meets the applicable criteria to be a qualifying facility. Any person seeking to challenge such qualifying facility status may do so by filing a motion pursuant to 18 CFR 292.207(d) (1)(iii), with the appropriate filing fee.¹

¹ See Hydro Investors, Inc. v. Trafalgar Power Inc., 94 FERC ¶ 61,207, reh'g denied, 95 FERC ¶ 61,120 (2001).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-24666 Filed 12-18-07; 8:45 am]

BILLING CODE 6717-01-P